DEPARTMENT OF HEALTH AND HUMAN SERVICES

[Document Identifier: OS-0945-0008]

Agency Information Collection Request; 60-Day Public Comment Request

AGENCY: Office of the Secretary, Office for Civil Rights (OCR), HHS.

ACTION: Notice.

SUMMARY: In compliance with the requirement of the Paperwork Reduction Act of 1995, the Office of the Secretary (OS), Office for Civil Rights (OCR), Department of Health and Human Services (HHS), is publishing the following summary of a proposed collection for public comment.

DATES: Comments on the ICR must be received on or before March 27, 2026.

ADDRESSES: When commenting, please reference the document identifier/OMB control number 0945-0008 and title of collection, Assurance of Compliance, Form HHS-690. To be assured consideration, comments and recommendations must be submitted in any one of the following ways:

• Electronically. You may send your comments electronically to OCRassuranceofcomplianceform@hhs.gov.

• By regular mail. You may mail written comments to the following address: U.S. Department of Health and Human Services, Office of the Secretary/Office for Civil Rights, Harold Henderson, Strategic Planning Division Paperwork Reduction Act Official, Office for Civil Rights (OCR), Office: (202) 868-9407, 200 Independence Avenue SW, Washington, DC 20201.

FOR FURTHER INFORMATION CONTACT: To obtain copies of supporting material for the proposed collection(s) summarized in this notice, please email Harold Henderson at OCRassuranceofcomplianceform@hhs.gov.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Assurance of Compliance, Form HHS-690.

Type of Collection: Revision.

Abstract: This Information Collection Request is for a revision with changes to previously approved collection 0945-0008 that will expire on April 30, 2026, titled: Assurance of Compliance, Form HHS-690, subject to modifications to comply with federal court orders and Executive Orders. The revisions conform the form to E.O. 14168 on “Defending Women from Gender Ideology Extremism and Restoring Biological Truth to the Federal Government” and the court order in Texas v. Becerra, No. 6:24-CV-211-JDK, 2024 WL 4490621, at *2 (E.D. Tex. Aug. 30, 2024) (staying nationwide the Section 1557 Final Rule definition of sex discrimination as including “sex characteristics, including intersex traits”; “pregnancy or related conditions”; “sexual orientation”; “gender identity”; and “sex stereotypes”). Such an assurance is required by the federal civil rights laws, conscience, and religious nondiscrimination laws enforced by the Office for Civil Rights. One method that the federal government uses to ensure civil rights compliance is to require covered entities to submit written assurances of compliance when applying for and receiving federal financial assistance. The assurances alert covered entities of their civil rights, conscience, and religious nondiscrimination obligations and provide the Department with a valuable enforcement tool, as a recipient's written assurance and certification documents can provide an independent contractual basis for enforcement of nondiscrimination requirements and can also give rise to a False Claims Act violation. This is for a 3-year request.

The estimated burden follows:

Estimated Annualized Burden Hours
Type of respondent | Form name | Number of respondents | Number responses per respondent | Avg. burden/ response (in hours) | Total burden hours
States, certain health care providers, other persons, and entities | Form HHS-690 | 8,486 | 1 | 4 | 33,944
Total |  | 8,486 |  |  | 33,944

Frequency: The Applicant provides this Assurance of Compliance when it applies for or receives new HHS funds.

Catherine Howard,
Paperwork Reduction Act Reports Clearance Officer, Office of the Secretary.

[FR Doc. 2026-01465 Filed 1-23-26; 8:45 am]

BILLING CODE 4153-01-P